DEPARTMENT OF HEALTH AND HUMAN SERVICES

Centers for Disease Control and Prevention

[60Day-16-1076; Docket No. CDC-2016-0009]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the proposed revision of the information collection entitled “Division of Community Health (DCH) Training and Technical Assistance: Needs Assessment and Satisfaction Surveys”.

DATES: Written comments must be received on or before March 21, 2016.

ADDRESSES: You may submit comments, identified by Docket No. CDC-2016-0009 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Division of Community Health (DCH) Training and Technical Assistance: Needs Assessment and Satisfaction Surveys (OMB No. 0920-1076, exp. 7/31/2017)—Revision—National Center for Chronic Disease Prevention and Health Promotion (NCCDPHP), Centers for Disease Control and Prevention (CDC).

Background and Brief Description

The Centers for Disease Control and Prevention (CDC), Division of Community Health (DCH), requests OMB approval to revise an ongoing information collection. The original information collection plan was based on two needs assessments conducted with DCH awardees at two different time points. In the proposed Revision, CDC describes plans to assess awardee satisfaction with the training and technical assistance (TA) being provided to them, in lieu of conducting the second needs assessment. The project title is being revised to reflect changes in the information collection plan. The original project title was “DCH Awardee Training Needs Assessment.”

In 2014, DCH announced the availability of funding for two cooperative agreement programs authorized by the Public Health Service Act: Partnerships for Community Health (PICH) and Racial and Ethnic Approaches to Community Health (REACH). The REACH cooperative agreement is financed in part by the Prevention and Public Health Fund of the Affordable Care Act. The cooperative agreements are designed to address chronic diseases and risk factors for chronic diseases, including physical inactivity, poor diet, obesity, and tobacco use. These risk factors contribute to chronic conditions such as heart disease, cancer, diabetes, and obesity. Over three-year funding periods, PICH and REACH awardees are providing support for implementation of broad, evidence- and practice-based policy and environmental improvements in large and small cities, urban and rural areas, tribes, multi-sector community coalitions, and racial and ethnic communities experiencing chronic disease disparities. PICH and REACH awardees include a mix of state, local, and tribal government entities as well as organizations based in the private sector.

DCH engaged contractors to provide training and TA services to PICH and REACH awardees on a variety of topics. ICF International provides training and TA on program implementation and sustainability (ICF-P), and also on evaluation (ICF-E); and FHI 360 provides training and TA related to communications (e.g., public education campaigns, social marketing, and using digital and social media). Services are provided in a variety of formats including in-person TA, phone-based TA, and in-person and online training.

The original information collection plan involved two needs assessments designed to inform the delivery of training and TA services. The first needs assessment was conducted in 2015 and the second was scheduled for fall 2016. CDC has since determined that program management will be better informed by an assessment of awardee satisfaction with the training and TA services being provided than an additional needs assessment. As a result, the needs assessment scheduled for fall 2016 will be replaced with new surveys designed to assess the extent to which training and TA provided through the ICF-P, ICF-E and FHI 360 contracts are being delivered as intended; to assess DCH awardees' satisfaction with the services they receive and the usefulness of provided services; and to inform improvement to training and TA services.

The two questions guiding this assessment of training and TA are: (1) How satisfied are DCH awardees with the TA services they receive?; and (2) Do the customers of DCH, who receive TA services, consider these services to be beneficial to them as they develop capacity to move forward in implementing their community health interventions? Survey instruments include questions to assess the following dimensions of training and TA:

• Accessibility—awardees' experience with acquiring training and TA in the various formats (e.g., in-person, phone-based, Web-based);

• Usefulness—perceptions about the relevance of provided training and TA, and whether it provides helpful guidance for implementing and/or evaluating community health interventions and fits with the unique contexts in which awardees work;

• Utilization—whether and how awardees have actually used available training and TA services, or whether awardees plan to apply the training and TA received to their community health work.

• Quality—opinions about the clarity, organization, visible appeal, credibility, and user-friendliness of training and TA services; and

• Areas for Improvement—recommendations for enhancing the content, delivery and format of training and TA, suggestions for increasing awareness about available services, and recommendations for addressing training and TA gaps.

Three web-based survey instruments have been developed to support revised goals. The questions on each instrument are tailored to the type of training or TA service provided to DCH awardees (in-person technical assistance, phone-based technical assistance, or in-person or online training). Information collection will be open for approximately three months in spring/summer 2016. Respondents will be a convenience sample of REACH and PICH awardees who receive training and TA within the data collection period. Based on DCH records of the training and TA services provided to date, CDC estimates up to 40 respondents per survey.

Completion of the training and TA surveys will provide a rich set of information that can be used for planning purposes and to ensure that DCH is responsive to the training needs of awardees, is proactive in improving support, and provides support in the format(s) most useful to awardees. Findings will help DCH ensure that it provides support that awardees perceive to be accessible, useful, and of high quality. The information will be used by DCH in aggregate.

OMB approval is requested until the current expiration date of July 31, 2017. The revised information collection plan will result in reductions in the number of responses and burden hours. Participation is voluntary and there are no costs to respondents other than their time.

Estimated Annualized Burden Hours
Type of respondent | Form name | Number of respondents | Number of responses per respondent | Average burden per response (in hr) | Total burden (in hr)
Private Sector Respondents Associated with PICH or REACH Awards | In-Person Technical Assistance Survey | 20 | 1 | 20/60 | 7
| Phone Technical Assistance Survey | 20 | 1 | 20/60 | 7
| In-Person/Online Training Survey | 20 | 1 | 20/60 | 7
State/Local/Tribal Government Sector Respondents Associated with PICH or REACH Awards | In-Person Technical Assistance Survey | 20 | 1 | 20/60 | 7
| Phone Technical Assistance Survey | 20 | 1 | 20/60 | 7
| In-Person/Online Training Survey | 20 | 1 | 20/60 | 7
Total |  |  |  |  | 42

Leroy A. Richardson,
Chief, Information Collection Review Office, Office of Scientific Integrity, Office of the Associate Director for Science, Office of the Director, Centers for Disease Control and Prevention.

[FR Doc. 2016-00940 Filed 1-19-16; 8:45 am]

BILLING CODE 4163-18-P